DEPARTMENT OF HEALTH AND HUMAN SERVICES

Office of the Secretary

Agency Information Collection Activities; Proposed Collections; Comment Request

The Department of Health and Human Services, Office of the Secretary will periodically publish summaries of proposed information collections projects and solicit public comments in compliance with the requirements of section 3506(c)(2)(A) of the Paperwork Reduction Act of 1995. To request more information on the project or to obtain a copy of the information collection plans and instruments, call the OS Reports Clearance Office at (202) 619-2118 or e-mail Geerie.Jones@HHS.gov.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project 1. A National Study of Stroke Post-Acute Care and Outcomes—NEW—The Office of the Assistant Secretary for Planning and Evaluation proposes a study to compare risk-adjusted quality indicators related to care provided across the three post-acute care (PAC) settings. The three settings are skilled nursing facilities, home health agencies, and inpatient rehabilitation facilities. Stroke was chosen as the tracer condition for this study because it is a common condition in PAC, accounting for approximately 10% of all Medicare PAC admissions, and because stroke patients are treated in all three PAC settings. Respondents: Individuals, Business or other for-profit; Facilities Burden Information—Number of Respondents: 74; Average Burden per Facility: 9.81 hours; Facilities Burden Total: 726 hours—Patients' Burden Information—Number of Respondents for Informed Consent: 1051; Average Burden per Response: 10 minutes; Burden for Informed Consent: 175 hours—Number of Respondents for Admission Interview: 1051; Average Burden per Response: 37.8 minutes; Burden for Admission Interview: 662 hours—Number of Respondents for 90-day Follow-up Interview: 915; Average Burden per Response: 29.4 minutes; Burden for 90-day Follow-up Interview: 448 hours—Total Patients Burden: 1,285 hours—Total Burden: 2,011 hours.

Send comments via e-mail to Geerie.Jones@HHS.gov, or mail to OS Reports Clearance Office, Room 503H, Hubert H. Humphrey Building, 200 Independence Avenue SW., Washington, DC 20201. Comments should be received within 60 days of this notice.

Dated: November 20, 2001.
Kerry Weems,
Acting Deputy Assistant Secretary, Budget.

[FR Doc. 01-29798 Filed 11-29-01; 8:45 am]

BILLING CODE 4154-05-M